DEPARTMENT OF COMMERCE

International Trade Administration

Request for Stakeholder Comments on “National Travel and Tourism Strategy”

AGENCY: International Trade Administration, Department of Commerce.

ACTION: Notice; request for comments.

SUMMARY: The International Trade Administration (“ITA”) seeks comments on key stakeholder priorities to be considered in the development of a national strategy, entitled “National Travel and Tourism Strategy” (“Strategy”), to be produced by the Task Force on Travel and Competitiveness (“Task Force”) established by Executive Order 13597 Establishing Visa and Foreign Visitor Processing Goals and the Task Force on Travel and Competitiveness (“Executive Order”), issued by President Barack Obama on January 19, 2012. The Task Force will consider the comments received in the development of the Strategy. All comments submitted should reference this notice.

DATES: Comments must be received on or before Tuesday, February 28, 2012.

ADDRESSES: Electronic comments are preferred and may be sent to: TourismStrategyComment@trade.gov. Written comments may be sent to: Jennifer Pilat, 1401 Constitution Avenue NW., Suite 4043, International Trade Administration, Washington, DC, 20230.

FOR FURTHER INFORMATION CONTACT: Jennifer Pilat, 1401 Constitution Avenue NW., Suite 4043, International Trade Administration, Washington, DC 20230, oacie@trade.gov, (202) 482-4501.

SUPPLEMENTARY INFORMATION: Section 3, subsection (c) of the Executive Order charges the Task Force to develop a Strategy with recommendations for new federal policies and initiatives to promote domestic and international travel opportunities throughout the United States with the goal of increasing the United States market share of worldwide travel, including obtaining a greater share of long-haul travel from Brazil, China, and India.

Such recommendations shall include, among other things, strategies to promote visits to the United States public lands, waters, shores, monuments, and other iconic American destinations, thereby expanding job creation in the United States. The Task Force shall also consider recommendations to promote and expand travel and tourism opportunities in rural communities.

In addition, the Strategy shall identify any barriers to increasing the United States market share of worldwide travel, and any other related areas of concern.

The goal of the Strategy is to improve the competitive position of the United States in attracting international visitors and increasing domestic travel to promote economic growth and job creation across America over the next five years.

The Task Force is seeking comments on the following topics:

(1) What can the Federal Government do on its own to improve the competitive position of the United States, including growing domestic travel and tourism?

a. In the short term (the next year)?

b. In the long term (the next five years)?

(2) What metric(s) would you use to measure progress?

a. What can the Federal Government do with partners to improve the competitive position of the United States, including growing domestic travel and tourism? Please name potential partners or types of partners.

b. In the short term (the next year)?

c. In the long term (the next five years)?

d. What metric(s) would you use to measure progress?

Input may be submitted to: TourismStrategyComment@trade.gov by Tuesday, February 28, 2012. Electronic comments are preferred. Written comments may be sent to: Jennifer Pilat, 1401 Constitution Avenue NW., Suite 4043, International Trade Administration, Washington, DC, 20230.

The Executive Order is available at: https://www.federalregister.gov/articles/2012/01/24/2012-1568/establishing-visa-and-foreign-visitor-processing-goals-and-the-task-force-on-travel-and#p-1.

Authority: Section 3 of Executive Order 13597 Establishing Visa and Foreign Visitor Processing Goals and the Task Force on Travel and Competitiveness Request for Comments: ITA seeks comments on key stakeholder priorities to be considered in the development of the Strategy. Comments should include a reference to this Federal Register notice. The Task Force will consider the comments submitted in response to this request, as well as other inputs, in its development of the Strategy.

Dated: February 9, 2012.
Jennifer Pilat,
Deputy Director, Office of Advisory Committees and Industry Engagement.

[FR Doc. 2012-3400 Filed 2-13-12; 8:45 am]

BILLING CODE 3510-DR-P